DEPARTMENT OF ENERGY

Federal Energy Regulatory Commission

Combined Notice of Filings #1

Take notice that the Commission received the following electric rate filings:

Docket Numbers: ER16-505-003.

Applicants: South Central MCN LLC.

Description: Compliance filing: SCMCN Compliance Filing Docket No. ER16-505-00_to be effective N/A.

Filed Date: 11/20/17.

Accession Number: 20171120-5166.

Comments Due: 5 p.m. ET 12/11/17.

Docket Numbers: ER17-892-001.

Applicants: Midcontinent Independent System Operator, Inc.

Description: Compliance filing: 2017-11-21_Calculations for SRIC and SREC Compliance Filing to be effective 2/1/2017.

Filed Date: 11/21/17.

Accession Number: 20171121-5096.

Comments Due: 5 p.m. ET 12/12/17.

Docket Numbers: ER18-320-000.

Applicants: South Central MCN LLC.

Description: Compliance filing: SCMCN Compliance Filing to be effective N/A.

Filed Date: 11/20/17.

Accession Number: 20171120-5128.

Comments Due: 5 p.m. ET 12/11/17.

Docket Numbers: ER18-321-000.

Applicants: Exelon Generation Company, LLC.

Description: Initial rate filing: Nuclear Operating Services Agreement Filing to be effective 11/30/2017.

Filed Date: 11/21/17.

Accession Number: 20171121-5040.

Comments Due: 5 p.m. ET 12/12/17.

Docket Numbers: ER18-322-000.

Applicants: Public Service Company of New Mexico.

Description: Tariff Cancellation: Notice of Cancellation of Service Agreement between PNM and Navopache to be effective 1/1/2018.

Filed Date: 11/21/17.

Accession Number: 20171121-5051.

Comments Due: 5 p.m. ET 12/12/17.

Docket Numbers: ER18-323-000.

Applicants: Exelon FitzPatrick, LLC.

Description: Baseline eTariff Filing: Certificate of Concurrence, Nuclear Operating Services Agreement (NOSA) to be effective 11/30/2017.

Filed Date: 11/21/17.

Accession Number: 20171121-5085.

Comments Due: 5 p.m. ET 12/12/17.

Docket Numbers: ER18-324-000.

Applicants: PJM Interconnection, L.L.C.

Description: § 205(d) Rate Filing: Second Revised Service Agreement No. 3476, Queue Position No. R11/Z2-109/AC1-029 to be effective 10/23/2017.

Filed Date: 11/21/17.

Accession Number: 20171121-5100.

Comments Due: 5 p.m. ET 12/12/17.

Docket Numbers: ER18-325-000.

Applicants: PJM Interconnection, L.L.C.

Description: Tariff Cancellation: Notice of Cancellation of WMPA SA No. 3916; Queue No. Z2-020 to be effective 10/30/2017.

Filed Date: 11/21/17.

Accession Number: 20171121-5101.

Comments Due: 5 p.m. ET 12/12/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2017.
Nathaniel J. Davis, Sr.,
Deputy Secretary.

[FR Doc. 2017-25626 Filed 11-27-17; 8:45 am]

BILLING CODE 6717-01-P